DEPARTMENT OF DEFENSE

Defense Acquisition Regulations System

48 CFR Parts 212, 222, and 252

RIN 0750-AF11

Defense Federal Acquisition Regulation Supplement; Combating Trafficking in Persons (DFARS Case 2004-D017)

AGENCY: Defense Acquisition Regulations System, Department of Defense (DoD).

ACTION: Final rule.

SUMMARY: DoD has issued a final rule amending the Defense Federal Acquisition Regulation Supplement (DFARS) to remove text addressing prohibitions on contractor activities involving trafficking in persons. The DFARS text is no longer necessary, since policy on this subject has been added to the Federal Acquisition Regulation (FAR).

DATES: Effective Date: January 24, 2008.

FOR FURTHER INFORMATION CONTACT: Ms. Felisha Hitt, Defense Acquisition Regulations System, OUSD(AT&L)DPAP(DARS), IMD 3D139, 3062 Defense Pentagon, Washington, DC 20301-3062. Telephone 703-602-0310; facsimile 703-602-7887. Please cite DFARS Case 2004-D017.

SUPPLEMENTARY INFORMATION:

A. Background

DoD published an interim rule at 71 FR 62560 on October 26, 2006, adding DFARS Subpart 222.17 and a corresponding contract clause at DFARS 252.222-7006, to implement DoD policy prohibiting DoD contractors from engaging in activities that support or promote trafficking in persons. The DFARS text is no longer necessary, as a result of the FAR rule published at 72 FR 46335 on August 17, 2007. The FAR rule addresses Governmentwide zero tolerance policy with regard to trafficking in persons, and includes a contract clause for use in all solicitations and contracts. Therefore, this final rule removes the DFARS text published on October 26, 2006, except for references to internal DoD procedures regarding the combating of trafficking in persons.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule removes DFARS text that has become obsolete as a result of changes that have been made to the FAR.

C. Paperwork Reduction Act

This final rule eliminates the information collection requirements previously approved by the Office of Management and Budget under Control Number 0704-0440.

List of Subjects in 48 CFR Parts 212, 222, and 252

Government procurement.

Michele P. Peterson,
Editor, Defense Acquisition Regulations System.

Therefore, 48 CFR parts 212, 222, and 252 are amended as follows:

1. The authority citation for 48 CFR parts 212, 222, and 252 continues to read as follows:

Authority: 41 U.S.C. 421 and 48 CFR Chapter 1.

PART 212—ACQUISITION OF COMMERCIAL ITEMS

212.301 [Amended]

2. Section 212.301 is amended as follows:

a. By removing paragraph (f)(x); and

b. By redesignating paragraphs (f)(xi) through (f)(xiii) as paragraphs (f)(x) through (f)(xii) respectively.

PART 222—APPLICATION OF LABOR LAWS TO GOVERNMENT ACQUISITIONS

222.1700 through 222.1702 [Removed]

3. Sections 222.1700 through 222.1702 are removed.

4. Sections 222.1703 and 222.1704 are revised to read as follows:

222.1703 Policy.

See PGI 222.1703 for additional information regarding DoD policy for combating trafficking in persons outside the United States.

222.1704 Violations and remedies.

Follow the procedures at PGI 222.1704 for notifying the Combatant Commander if a violation occurs.

222.1704-70 and 222.1705 [Removed]

5. Sections 222.1704-70 and 222.1705 are removed.

PART 252—SOLICITATION PROVISIONS AND CONTRACT CLAUSES

252.222-7006 [Removed]

6. Section 252.222-7006 is removed.

[FR Doc. E8-1120 Filed 1-23-08; 8:45 am]

BILLING CODE 5001-08-P